INTERNATIONAL TRADE COMMISSION

[Investigation Nos. 731-TA-1560-1562 and 1564 (Final)]

Raw Honey From Argentina, Brazil, India, and Vietnam

Determinations

On the basis of the record ¹ developed in the subject investigations, the United States International Trade Commission (“Commission”) determines, pursuant to the Tariff Act of 1930 (“the Act”), that an industry in the United States is materially injured by reason of imports of raw honey from Argentina, Brazil, India, and Vietnam, provided for in subheading 0409.00.00 of the Harmonized Tariff Schedule of the United States, that have been found by the U.S. Department of Commerce (“Commerce”) to be sold in the United States at less than fair value (“LTFV”).2 3

¹ The record is defined in § 207.2(f) of the Commission's Rules of Practice and Procedure (19 CFR 207.2(f)).

² 87 FR 22179, 87 FR 22182, 87 FR 22188, 87 FR 22184 (April 14, 2022).

³ The Commission also finds that imports subject to Commerce's affirmative critical circumstances determination are not likely to undermine seriously the remedial effect of the antidumping duty order on Argentina. The Commission finds that imports subject to Commerce's affirmative critical circumstances determination are likely to undermine seriously the remedial effect of the antidumping duty order on Vietnam.

Background

The Commission instituted these investigations effective April 21, 2021, following receipt of petitions filed with the Commission and Commerce by the American Honey Producers Association (“AHPA”), Bruce, South Dakota, and the Sioux Honey Association (“SHA”), Sioux City, Iowa. The Commission scheduled the final phase of the investigations following notification of preliminary determinations by Commerce that imports of raw honey from Argentina, Brazil, India, Ukraine, and Vietnam were being sold at LTFV within the meaning of section 733(b) of the Act (19 U.S.C. 1673b(b)).⁴ Notice of the scheduling of the final phase of the Commission's investigations and of a public hearing to be held in connection therewith was given by posting copies of the notice in the Office of the Secretary, U.S. International Trade Commission, Washington, DC, and by publishing the notice in the Federal Register of December 9, 2021 (86 FR 70144). The Commission conducted its hearing on April 11, 2022. All persons who requested the opportunity were permitted to participate.

⁴ On March 24, 2022, counsel for petitioners filed with Commerce and the Commission a withdrawal of their petition regarding imports of raw honey from Ukraine. Accordingly, the antidumping duty investigation concerning raw honey from Ukraine (Investigation No. 731-TA-1563 (Final)) was terminated. 87 FR 19855 (April 6, 2022), 87 FR 20462 (April 07, 2022).

The Commission made these determinations pursuant to § 735(b) of the Act (19 U.S.C. 1673d(b)). It completed and filed its determinations in these investigations on May 27, 2022. The views of the Commission are contained in USITC Publication 5327 (May 2022), entitled Raw Honey from Argentina, Brazil, India, and Vietnam: Investigation Nos. 731-TA-1560-1562 and 1564 (Final).

By order of the Commission.
Issued: May 24, 2022.
Lisa Barton,
Secretary to the Commission.

[FR Doc. 2022-11887 Filed 6-2-22; 8:45 am]

BILLING CODE 7020-02-P